CORPORATION FOR NATIONAL AND COMMUNITY SERVICE

Notice Inviting Preliminary Public Input on Transformation and Sustainability Plan; Correction

AGENCY: Corporation for National and Community Service.

ACTION: Request for preliminary public input; Notification of listening sessions; Correction.

SUMMARY: The Corporation for National and Community Service published a Notice in the Federal Register of June 19, 2018, concerning listening sessions to solicit comments regarding its Transformation and Sustainability Plan. The document contained an incorrect date.

FOR FURTHER INFORMATION CONTACT: Neill Minish, Special Initiatives Advisor, Corporation for National and Community Service, 250 E Street SW, Washington, DC 20525. Phone: 202-606-6664. Email: nminish@cns.gov.

Correction

In the Federal Register of June 19, 2018, in FR Doc. 2018-13087, on page 28415, in the first column, correct the second listening session to read as follows:

2. June 26, 2018, New Orleans, LA.

Dated: June 20, 2018.
Brian Finch,
Director of Business Transformation.

[FR Doc. 2018-13588 Filed 6-21-18; 11:15 am]

BILLING CODE 6050-28-P